DEPARTMENT OF INTERIOR

Bureau of Land Management

[LLCOF03003L12200000.FU0000]

Notice of Intent to Collect Fees on Public Land in Alamosa County, CO

AGENCY: Bureau of Land Management, Interior.

ACTION: Notice of Intent.

SUMMARY: Pursuant to applicable provisions of the Federal Lands Recreation Enhancement Act (REA), the Bureau of Land Management (BLM) La Jara Field Office is proposing to collect fees at the Zapata Falls Campground in Alamosa County, Colorado (Township 28S, Range 73W, Section 17). Under Section 2(2) of the REA, Zapata Falls Campground qualifies as a site wherein visitors can be charged an “Expanded Amenity Recreation Fee” authorized under section 3(g). In accordance with the REA, and the BLM's implementing regulations, the La Jara Field Office is proposing to charge $11 per night for individual sites and $20 per night for group-site fees for overnight camping within the developed campground.

DATES: This notice initiates the public comment period. Comments on issues may be submitted in writing by December 28, 2011. New fee implementation is contingent on a recommendation of the Colorado Front Range Resource Advisory Council (RAC) review. Per the REA, effective 6 months after the publication of this notice, and dependent on review and an affirmative recommendation by the Colorado Front Range RAC and modification approval from the BLM Colorado State Director. To meet the terms of a RAC recommendation, the La Jara Field Office will provide final public notice under REA and initiate fee collection at the Zapata Falls Campground.

ADDRESSES: You may submit comments related to the proposed fee collection at Zapata Falls Campground by any of the following methods:

• Web site: http://www.blm.gov/co/st/en/fo/slvplc.html.

• Email: snoonan@blm.gov.

• Fax: (719) 655-2502.

• Mail: BLM, Saguache Field Office, 46525 State Hwy. 114, Saguache, CO 81149.

FOR FURTHER INFORMATION CONTACT: Sean Noonan, Outdoor Recreation Planner; telephone (719) 655-6136; see address above; email snoonan@blm.gov.

SUPPLEMENTARY INFORMATION: The Zapata Falls Campground was built in 2010 with American Recovery and Reinvestment Act funding. The campground has one camp host site, one group site, and 23 individual sites divided between a tent camping loop and an RV camping loop. The site includes water, restrooms, trails and signs. Pursuant to the REA and implementing regulations at 43 CFR subpart 2933, fees may be charged for overnight camping. Specific visitor fees will be identified and posted at the site and the La Jara Field Office. Fees must be paid at the self-service pay station located at the site. People holding the America The Beautiful—The National Parks and Federal Recreational Lands—Senior Pass (i.e., Interagency Senior Pass), a Golden Age Passport, the America the Beautiful—The National Parks and Federal Recreational Lands—Access Pass (i.e, Interagency Access Pass), or a Golden Access Passport will be entitled to a 50 percent reduction on all overnight camping fees. The BLM is committed to providing and receiving fair value for the use of developed recreation facilities and services in a manner that meets public-use demands, provides for quality experiences, and protects important resources. The BLM's policy is to collect fees at all specialized recreation sites, or where the BLM provides facilities, equipment or services, at Federal expense, in connection with outdoor use as authorized by the REA. Implementing a fee program for the campground will help ensure that funding is available to accomplish deferred maintenance, make future enhancements, maintain facilities and recreational opportunities, provide for law enforcement presence, develop additional services, and protect resources. Campground development is consistent with the 1991 San Luis Resource Area Resource Management Plan, the 2009 Zapata Falls Recreation Area Management Plan, and was analyzed in the Zapata Falls Campground Construction Project Environmental Assessment, CO-140-2009-017-EA. Proposed fees at the Zapata Falls Campground are consistent with other established fee sites in the area, including other BLM-administered sites and those managed by the United States Department of Agriculture Forest Service, United States Department of the Interior National Park Service, and Colorado Parks and Wildlife. The REA was signed into law in December 2004. The REA provides authority for the Secretaries of the Interior and Agriculture to establish, modify, charge and collect recreation fees for use of some Federal recreation lands and waters for 10 years, and contains specific provisions addressing public involvement in the establishment of recreation fees, including a requirement that Recreation Resource Advisory Committees or BLM RACs have the opportunity to make recommendations regarding establishment of such fees. The REA also directed the secretaries of the Interior and Agriculture to publish advance notice in the Federal Register before new recreation fee areas are established under their respective jurisdictions. In accordance with the BLM recreation fee program policy, the La Jara Field Office's Zapata Falls Campground recreation fee business plan is available at the La Jara Field Office and the BLM Colorado State Office. The business plan explains both the fee collection process and how the fees will be used at the campground. The BLM notified and involved the public at each stage of the planning process, including the proposal to collect fees. The BLM Colorado Front Range RAC has previously reviewed the fee proposal and unanimously recommended approval of the proposal at its January 12, 2011, meeting. This review did not meet the terms of the REA Review because, at the time, the REA review requirements were being fulfilled by the United States Forest Service Recreation RAC, which did not convene in time to review or recommend the proposal. The BLM welcomes public comments on this proposal. Please send comments to Sean Noonan by email at: snoonan@blm.gov.

Before including your address, phone number, email address, or other personal identifying information in your comment, you should be advised that your entire comment—including your personal identifying information—may be made publicly available at any time. While you can ask us in your comment to withhold from public review your personal identifying information, we cannot guarantee that we will be able to do so.

Authority: 16 U.S.C. 6803(b).

Helen M. Hankins,
State Director.

[FR Doc. 2011-30470 Filed 11-25-11; 8:45 am]

BILLING CODE 4310-JB-P